ENVIRONMENTAL PROTECTION AGENCY

[EPA-HQ-OPPT-2007-0490; FRL-8139-7]

TSCA Section 21 Petition on Nonylphenol and Nonylphenol Ethoxylates; Notice of Receipt

AGENCY: Environmental Protection Agency (EPA).

ACTION: Notice.

SUMMARY: This notice announces that EPA has received a petition under section 21 of the Toxic Substances Control Act (TSCA) and requests comments on issues raised by the petition. The petition was received from the Sierra Club, the Environmental Law & Policy Center, the Pacific Coast Federation of Fishermen's Association, the Washington Toxics Coalition, Physicians for Social Responsibility, and UNITE HERE on June 6, 2007. The petitioners are concerned about the risks to human health and the environment from exposure to the chemical substances nonylphenol (NP) and nonylphenol ethoxylates (NPE) and are petitioning EPA to exercise its authority under TSCA section 4 to require manufacturers and importers to conduct specific health and safety studies, and under TSCA section 6(a) to require labeling on all products containing NP and NPE and to limit the use of NP and NPE in certain circumstances. EPA must either grant or deny a TSCA section 21 petition within 90 days of receipt of the petition and will, therefore, respond to this petition by September 4, 2007.

DATES: Comments must be received on or before July 25, 2007.

ADDRESSES: Submit your comments, identified by docket identification (ID) number EPA-HQ-OPPT-2007-0490, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2007-0490. The DCO is open from 8 a.m. to 4 p.m., Monday through Friday, excluding legal holidays. The telephone number for the DCO is (202) 564-8930. Such deliveries are only accepted during the DCO’s normal hours of operation, and special arrangements should be made for deliveries of boxed information.

Instructions: Direct your comments to docket ID number EPA-HQ-OPPT-2007-0490. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA’s public docket, visit the EPA Docket Center homepage at http://www.epa.gov/epahome/dockets.htm.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For general information contact: Colby Linter, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Mary Dominiak or John Schaeffer, Chemical Control Division (7405M), Office Pollution Prevention and Toxics, Environmental Protection Agency, 1200 Pennsylvania Ave., NW., Washington, DC 20460-0001; telephone number: (202) 564-8104 or (202) 564-8167; e-mail address: dominiak.mary@epa.gov or schaeffer.john @epa.gov.

SUPPLEMENTARY INFORMATION:

I. General Information

A. Does this Action Apply to Me?

You may be potentially affected by this action if you manufacture, import, or distribute in commerce NP or NPE. Potentially affected entities may include, but are not limited to:

• Chemical manufacturers (including importers) (NAICS codes 325, 32411, e.g. chemical manufacturing and petroleum refineries) of one or more of the subject chemicals.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the technical person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. What is a TSCA Section 21 Petition?

TSCA section 21 allows citizens to petition EPA to initiate a proceeding for the issuance, amendment, or repeal of a rule under TSCA sections 4, 6, or 8 or of an order under TSCA sections 5(e) or 6(b)(2). A TSCA section 21 petition must set forth facts that the petitioner believes establish the need for the action requested. EPA is required to grant or deny the petition within 90 days of its filing. If EPA grants the petition, EPA must promptly commence an appropriate proceeding. If EPA denies the petition, EPA must publish its reasons for the denial in the Federal Register. Within 60 days of denial, or expiration of the 90-day period if no action is taken, the petitioner may commence a civil action in a U.S. district court to compel initiation of the requested rulemaking proceeding.

B. What Action is Requested Under this TSCA Section 21 Petition?

On June 6, 2007, the Sierra Club, the Environmental Law & Policy Center, the Pacific Coast Federation of Fishermen's Association, the Washington Toxics Coalition, Physicians for Social Responsibility, and UNITE HERE petitioned EPA to take action under TSCA sections 4 and 6(a). The petitioners requested that EPA exercise its authority under TSCA section 4 to require manufacturers and importers to conduct specific health and safety studies and under TSCA section 6(a) to require labeling on all products containing NP and NPE and to limit the use of NP and NPE in certain circumstances.

Specifically, the petition requested that EPA require testing under TSCA section 4 for:

• “filling the gaps for chronic toxicity of NPE oligomers;”

• “filling the gaps regarding the additive toxicity of NP and NPE oligomers to [aquatic] species;”

• “research on individual endocrine disruption impacts and on the relationship between individual endocrine disruption impacts and pollution-level impacts;”

• “testing for vitellogen gene expression;”

• “testing related to levels of NP and NPE in humans and estrogenic effects in humans;”

• “testing for health impacts on workers handling the chemicals at industrial laundries;” and

• “testing for determine[ing] exposure to NPE in residential indoor air.”

The petition also requested that EPA take action under TSCA section 6(a) to:

• “require labeling on all products containing the chemical;”

• “restrict the use of the chemicals where the user cannot verify that the chemical will receive proper treatment from an activated sludge treatment process designed to nitrify;”

• “ban the use of the chemicals in industrial and consumer detergents;” and

• “require pollution prevention planning by facilities that use 2000 kg or more of NP or NPEs.”

C. EPA Seeks Public Comment

Under TSCA section 21, which is applicable to requests for rulemaking proceedings under TSCA sections 4 and 6(a), EPA must either grant or deny a petition within 90 days. Because EPA must respond to the requests for action under TSCA sections 4 and 6(a) by September 4, 2007, EPA will allow the public until July 25, 2007 to reply with any additional information relevant to the issues identified in the petition, a copy of which can be obtained from the public docket (see ADDRESSES).

In assessing the usability of any data or information that may be submitted, EPA plans to follow the guidelines in EPA's “A Summary of General Assessment Factors for Evaluating the Quality of Scientific and Technical Information” (EPA 100/B-03/001), referred to as the “Assessment Factors Document.” The “Assessment Factors Document” published in the Federal Register of July 1, 2003 (68 FR 39086) (FRL-7520-2) and is available on-line at: http://www.epa.gov/fedrgstr/EPA-GENERAL/2003/July/Day-01/g16328.htm. That document is also available on-line at: http://www.epa.gov/osa/spc/assess.htm.

List of Subjects

Environmental protection, Hazardous substances.

Dated: July 2, 2007.
James B. Gulliford,
Assistant Administrator, Office of Prevention, Pesticides and Toxic Substances.

[FR Doc. E7-13336 Filed 7-9-07; 8:45 am]

BILLING CODE 6560-50-S